DEPARTMENT OF ENERGY

Federal Regulatory Energy Commission

[Docket No. CP02-92-002]

AES Ocean Express LLC; Notice of Compliance Filing

April 7, 2004.

Take notice that on March 29, 2004, AES Ocean Express LLC (Ocean Express), tendered for filing revised pro forma tariff sheets to its FERC Gas Tariff, Original Volume No. 1, as listed on Appendix A attached to the filing, and revised rates.

Ocean Express states that the purpose of this filing is to comply with Ordering Paragraph (I) of the Commission's Preliminary Determination on Non-Environmental Issues, 103 FERC (CCH) ¶ 61,030 (2003) (PD).

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: April 19, 2004.

Linda Mitry,
Acting Secretary.

[FR Doc. E4-819 Filed 4-13-04; 8:45 am]

BILLING CODE 6717-01-P